DEPARTMENT OF DEFENSE

Department of the Navy

Notice of Intent To Grant Partially Exclusive License; NextGen Containers LLC

AGENCY: Department of the Navy, DoD.

ACTION: Notice.

SUMMARY: The Department of the Navy gives notice of its intent to grant NextGen Containers LLC a revocable, nonassignable, partially exclusive license, with exclusive field of use in containerization of energetics (systems containing explosives, propellants, ignitors, ammunition, and their ingredients), medical materials and devices, and non-exclusive rights in all other fields of use, in the United States to practice the Government-owned inventions, U.S. Patent 7,156,249 entitled “Container and related methods”; U.S. Patent Application Serial No. 11/387,084 entitled “Shipping and Storage System”; U.S. Patent Application Serial No. 11/387,082 entitled “Interlocking Pallets, and Shipping and Storage Systems Employing the Same”; and U.S. Patent Application Serial No. 11/387,081 entitled “Automatically Interlocking Pallets, and Shipping and Storage Systems Employing the Same.”

DATES: Anyone wishing to object to the grant of this license must file written objections along with supporting evidence, if any, not later than February 27, 2009.

ADDRESSES: Written objections are to be filed with Indian Head Division, Naval Surface Warfare Center, Code CAB, Suite 107, 1st floor, 3824 Strauss Avenue, Indian Head, MD 20640-5152.

FOR FURTHER INFORMATION CONTACT: Dr. J. Scott Deiter, Head, Technology Transfer Office, Naval Surface Warfare Center Indian Head Division, Code CAB, 3824 Strauss Avenue, Indian Head, MD 20640-5035, telephone: 301-744-6111.

Dated: February 4, 2009.
A.M. Vallandingham,
Lieutenant Commander, Judge Advocate General's Corps, U.S. Navy, Federal Register Liaison Officer.

[FR Doc. E9-2723 Filed 2-9-09; 8:45 am]

BILLING CODE 3810-FF-P